DEPARTMENT OF COMMERCE

National Oceanic and Atmospheric Administration

RIN 0648-XH095

Pacific Fishery Management Council; Public Meeting

AGENCY: National Marine Fisheries Service (NMFS), National Oceanic and Atmospheric Administration (NOAA), Commerce.

ACTION: Notice of public meeting.

SUMMARY: The Pacific Fishery Management Council's (Pacific Council) Highly Migratory Species Management Team (HMSMT) will hold a meeting, which is open to the public.

DATES: The meeting will be held Wednesday, August 7 and Thursday, August 8, 2019, and will start at 8:30 a.m. and continue until business is concluded on each day.

ADDRESSES: Meeting address: The meeting will be held at the Glenn M. Anderson Federal Building, 501 W Ocean Blvd., Long Beach, CA 90802, on the Third Floor in Room 3300.

Visitors need to present photo ID and pass through electronic security equipment to enter the building. There is no visitor parking available in the building for the general public. Metered street parking is nearby. Commercial parking lots are within walking distance to the building. For meeting location information, you may contact Lyle Enriquez by email at Lyle.Enriquez@noaa.gov or phone: (562) 980-4025.

Council address: Pacific Fishery Management Council, 7700 NE Ambassador Place, Suite 101, Portland, OR 97220.

FOR FURTHER INFORMATION CONTACT: Dr. Kit Dahl, Pacific Council; telephone: (503) 820-2422.

SUPPLEMENTARY INFORMATION: The purpose of the HMSMT meeting is to review the analysis of the range of alternatives (including the preliminary preferred alternative) for authorizing a fishery using deep-set buoy gear adopted by the Pacific Council in March 2019. The Pacific Council is scheduled to use this analysis to choose a final preferred alternative at its September 2019 meeting. The HMSMT may also discuss other HMS, administrative, or ecosystem items on upcoming Pacific Council meeting agendas and associated tasks. These items may include international management of HMS, review of exempted fishing permit proposals and related process issues, potential actions by the Pacific Council on the pelagic longline and large mesh drift gillnet fisheries, and updates to the HMS Stock Assessment and Fishery Evaluation document. An agenda listing candidate discussion topics will be made available on the Pacific Council website in advance of the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt (503) 820-2411, at least 10 business days prior to the meeting date.

Dated: July 11, 2019.
Tracey L. Thompson,
Acting Deputy Director, Office of Sustainable Fisheries, National Marine Fisheries Service.

[FR Doc. 2019-15078 Filed 7-15-19; 8:45 am]

BILLING CODE 3510-22-P